DEPARTMENT OF ENERGY

Federal Energy Regulatory Commission

[Docket No. AD21-4-000]

Review of Cost Submittals by Other Federal Agencies for Administering Part I of the Federal Power Act; Notice Requesting Questions and Comments of Fiscal Year 2020 Other Federal Agency Cost Submissions

In its Order On Rehearing Consolidating Administrative Annual Charges Bill Appeals And Modifying Annual Charges Billing Procedures, 109 FERC ¶ 61,040 (2004) (October 8 Order), the Commission set forth an annual process for Other Federal Agencies (OFAs) to submit their costs related to Administering Part I of the Federal Power Act. Pursuant to the established process, the Chief of Financial Operations, Financial Management Division, Office of the Executive Director, on October 21, 2020, issued a letter requesting the OFAs to submit their costs by December 31, 2020 using the OFA Cost Submission Form.

Upon receipt of the agency submissions, the Commission posted the information in eLibrary, and issued, on March 11, 2021, a notice announcing the date for a technical conference to review the submitted costs. On March 25, 2021 the Commission held the technical conference. Technical conference transcripts, submitted cost forms, and detailed supporting documents are all available for review under Docket No. AD21-4.

The Commission provides all interested persons an opportunity to view and/or print the contents of these documents via the internet through the Commission's Home Page (http://ferc.gov) using the “eLibrary” link. Enter the docket number excluding the last three digits in the docket number field to access documents filed in this proceeding. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

The Commission strongly encourages electronic filings in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Interested parties may file specific questions and comments on the FY 2020 OFA cost submissions with the Commission under Docket No. AD21-4, no later than May 3, 2021. Once filed, the Commission will forward the questions and comments to the OFAs for response.

Anyone with questions pertaining to the technical conference or this notice should contact Raven A. Rodriguez at (202) 502-6276 (via email at raven.rodriguez@ferc.gov).

Dated: April 20, 2021.
Kimberly D. Bose,
Secretary.

[FR Doc. 2021-08612 Filed 4-23-21; 8:45 am]

BILLING CODE 6717-01-P